DEPARTMENT OF TRANSPORTATION

Federal Motor Carrier Safety Administration

[Docket No. FMCSA-2022-0235]

Agency Information Collection Activities; Approval of a New Information Collection Request: Crash Causal Factors Program: Knowledge of Systems and Processes

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. This ICR relates to the planned “Study of Commercial Motor Vehicle Crash Causation,” mandated by Congress in the Infrastructure and Investment Jobs Act (IIJA). To plan and execute this study, FMCSA must collect information from the States and local jurisdictions to understand their interest or ability to participate in the study. FMCSA will collect information on existing crash data collection processes, systems, and resources and commercial motor vehicle (CMV) enforcement funding mechanisms and sources.

DATES: Comments on this notice must be received on or before June 26, 2023.

ADDRESSES: Written comments and recommendations for the proposed information collection (IC) should be sent within 30 days of publication of this notice to www.reginfo.gov/public/do/PRAMain. Find this IC by selecting “Currently under 30-day Review—Open for Public Comments” or by using the search function.

FOR FURTHER INFORMATION CONTACT: Kelly Stowe, Office of Analysis, Research, and Technology/Research Division, DOT, FMCSA, West Building 6th Floor, 1200 New Jersey Avenue SE, Washington, DC 20590-0001; 202-366-2646; kelly.stowe@dot.gov.

SUPPLEMENTARY INFORMATION:

Title: Crash Causal Factors Program: Knowledge of Systems and Processes.

OMB Control Number: 2126-00XX.

Type of Request: New ICR.

Respondents: State and local Government employees (first-line supervisors of police and detectives; police and sheriff's patrol officers; general and operations managers; chief executives; computer and information systems managers; and computer and mathematical operations workers).

Estimated Number of Respondents: 1,320 respondents.

Estimated Time per Response: 1.61 hours (rounded) per response, average (across all ICs).

Expiration Date: N/A. This is a new ICR.

Frequency of Response: Once for each IC.

Estimated Total Annual Burden: 2,124 hours total, or 708 hours annually (51 annual hours for State computer and information systems managers + 9 annual hours for local computer and information systems managers + 119 annual hours for State police and sheriff's patrol officers + 9 annual hours for local police and sheriff's patrol officers + 114.75 annual hours for State first-line supervisors of police and detectives + 42.75 annual hours for local first-line supervisors of police and detectives + 114.75 annual hours for State general and operations managers + 40.5 annual hours for local general and operations managers + 114.75 annual hours for State chief executives + 40.5 annual hours for local chief executives + 34 annual hours for State computer and mathematical operations workers + 18 annual hours for local computer and mathematical operations workers = 708 annual hours).

Background

On December 27, 2020, the Consolidated Appropriations Act, 2021 (Pub. L. 116-260), was signed into law, appropriating $30 million to FMCSA to “carry out [a] study of the cause[s] of large truck crashes.” On November 14, 2021, the President signed into law the IIJA (Pub. L. 117-58), which contains requirements for a larger study under section 23006, “Study of Commercial Motor Vehicle Crash Causation.” The requirements under section 23006 define the scope of the study to include all CMVs as defined in 49 U.S.C. 31132.

Section 23006(b)(1) of the IIJA requires the Secretary to “carry out a comprehensive study to determine the causes of, and contributing factors to, crashes that involve a commercial motor vehicle.” Section 23006(b)(2) further requires the Secretary to:

A. Identify data requirements, data collection procedures, reports, and any other measures that can be used to improve the ability of States and the Secretary to evaluate future crashes involving CMVs;

B. Monitor crash trends and identify causes and contributing factors; and

C. Develop effective safety improvement policies and programs.

To meet the requirements of section 23006, FMCSA is establishing a Crash Causal Factors Program. Through this program, FMCSA will execute a multi-phased study of crash causal factors, with Phase 1 focused on fatal crashes involving Class ⅞ large trucks. This Phase 1 effort is referred to as the Large Truck Crash Causal Factors Study. Future phases of the study will focus on different CMV populations (such as medium-duty trucks) or crash severities (e.g., serious injury crashes).

Congress anticipated that FMCSA would need to consult with the States and a variety of other experts when planning and executing the study, as noted in section 23006(d), which reads: “In designing and carrying out the study, the Secretary may consult with individuals or entities with expertise on—

1. Crash causation and prevention;

2. Commercial motor vehicles, commercial drivers, and motor carriers, including passenger carriers;

3. Highways and noncommercial motor vehicles and drivers;

4. Federal and State highway and motor carrier safety programs;

5. Research methods and statistical analysis; and

6. Other relevant topics, as determined by the Secretary.”

This IC will collect data from Federal, State, and local highway and motor carrier safety programs. It will focus on identifying and documenting States' and local jurisdictions' ability to participate in the study; agreements that the States or jurisdictions will require to participate in the study; existing crash data collection processes, systems, training, and quality control processes; and CMV enforcement funding mechanisms and sources.

How the Agency Will Use Collected Information

FMCSA will use collected information from four ICs:

• IC-1: Identifying Points of Contact

• IC-2: Sample Design; Partnerships and Coordination

• IC-3: Crash Data Collection

• IC-4: CMV Enforcement Resources and Funding

Information collected under these four ICs will inform various elements of the study plan, including the sample design, data collection plans, participation agreements, resourcing plans, and development of the study database. Below are additional details on how FMCSA will use collected information to develop various study plan elements.

IC-1: Identifying Points of Contact

Before collecting information for ICs 2, 3, and 4, FMCSA will first need to identify the appropriate points of contact in each State and a sample of local jurisdictions for the remaining IC components. Once FMCSA obtains contact information from the States, the Agency will distribute a web-based survey for IC-2, IC-3, and IC-4 to the relevant point of contact in each State or jurisdiction. Below are additional details on how FMCSA will use collected information to develop various study plan elements.

IC-2: Sample Design; Partnerships and Coordination

The original Large Truck Crash Causation Study conducted from 2001 through 2003 leveraged the sample design from the National Highway Traffic Safety Administration's (NHTSA) National Automotive Sampling System (NASS) Crashworthiness Data System (CDS). NHTSA has since developed the Crash Investigation Sampling System (CISS), which replaces NASS CDS. Both NASS CDS and CISS are focused on crashes involving passenger vehicles (i.e., passenger cars, light trucks, vans, and utility vehicles). Neither sampling system was designed to collect data on a representative sample of crashes involving CMVs. NHTSA acknowledged this in its 2019 sample design and weighting documentation for CISS, stating in a discussion on special crash populations, “The most efficient way to study a rare population is to design a special study that solely targets that particular rare population.” As a result, FMCSA is planning to develop a new sample design specific to crashes involving CMVs. However, FMCSA cannot simply select a random sample of State and local jurisdictions to include in the sample design. The Agency will need to identify an appropriate mix of State and local jurisdictions to allow for a nationally representative sample design. Participating States and local jurisdictions will be asked to collect and share the required study data and troubleshoot study-related issues as they arise. The information collected under IC-2 will inform the sample design for this study. It will also provide important information about State- or local jurisdiction-required participation and data sharing agreements.

IC-3: Crash Data Collection

FMCSA is planning to leverage existing State and local jurisdiction resources (where possible) to collect required study data. This will be a complex effort that will require substantial information sharing and coordination between participating States/jurisdictions and FMCSA.

Under IC-3, FMCSA will seek to learn more about the data elements that State and local jurisdictions are already collecting; State and local jurisdiction CMV crash reporting criteria and notification processes; State and local jurisdiction crash data collection systems and processes (e.g., what systems exist, who owns the system(s), whether the system can interface with other systems, etc.); existing crash data collection trainings offered by the State/jurisdiction; and crash data quality reviews that States and local jurisdictions currently conduct. The Agency will use this information to inform the study crash data collection plan and requirements for the study database.

IC-4: CMV Enforcement Resources and Funding

FMCSA must collect information from States and local jurisdictions to understand whether existing commercial vehicle enforcement resources can meet the study needs, and if not, to determine how much additional funding or resources jurisdictions will require to collect the necessary data. IC-4 will identify available CMV enforcement resources within States/jurisdictions, funding sources for existing commercial vehicle enforcement resources and activities (e.g., State-funded versus FMCSA grant-funded), and whether there is a mechanism for the local jurisdiction to receive study funding through FMCSA's grant programs (i.e., as a sub-grantee). Information collected under IC-4 will also inform FMCSA resourcing plans outside of the States/jurisdictions.

Method of Collection

FMCSA will collect the required information for IC-1 via email. For ICs 2, 3, and 4, FMCSA will leverage a web-based survey application combined with email to collect information. FMCSA believes that all respondents will have State or local government-provided information technology equipment (e.g., laptops, mobile devices, etc.) and internet access; as such, the Agency believes electronic submissions will be most cost-effective and efficient for respondents (as opposed to mail-based submissions or some other means). FMCSA estimates that 100 percent of submissions will be electronic.

Results of Data Collection

FMCSA does not plan to publish results from this data collection. Results from this data collection, which will be descriptive and/or qualitative in nature, will inform the study sample design, participation agreements, data collection plans, resource plans, and study database requirements. No complex analytical techniques will be used. Final results from the overall study, once completed, will be published in a final study report. Findings from the overall study will ultimately inform the identification and development of countermeasures to prevent crashes involving CMVs.

As part of the Crash Causal Factors Program, this IC supports the DOT Strategic Goal of Safety.

Response to Public Comments

On December 27, 2022, FMCSA published a 60-day notice in the Federal Register seeking public comment on this proposed IC (87 FR 79419). FMCSA received six comments, two of which were unrelated to this ICR or the Large Truck Crash Causal Factors Study. Below are summaries of the four relevant comments received, along with FMCSA's responses.

Eric Hein (Two Comments)

Eric Hein submitted two comments. The first comment included (1) a letter that discussed underreporting of fatal side underride crashes in NHTSA's Fatality Analysis Reporting System (FARS) and requested inclusion of side underride guard research in the Large Truck Crash Causal Factors Study, and (2) a report examining underreporting of side underride crashes in FARS. The second comment included revised versions of the letter and report that Mr. Hein had submitted earlier in the comment period.

Agency Response: Mr. Hein's comments are not related to the proposed IC, but they are relevant to the Large Truck Crash Causal Factors Study in general. While the Agency cannot predict what types of crashes will occur in study locations during the data collection period, if side underride crashes do occur, FMCSA plans to collect relevant data to enable detailed analysis of such crashes. Before collecting crash data for the study, FMCSA will issue a separate 60-day notice announcing the proposed IC and requesting comments from the public. FMCSA invites Mr. Hein to submit additional comments at that time.

Industry Associations (Two Comments)

The American Trucking Associations (ATA) submitted a letter expressing support for the proposed IC, along with a copy of the comments they submitted in response to FMCSA's request for information (RFI) on the Large Truck Crash Causal Factors Study, published January 15, 2020 (85 FR 2481).

The Owner-Operator Independent Drivers Association (OOIDA) submitted a letter that (1) expressed support for the proposed IC, and (2) reiterated several comments the association had previously submitted in response to FMCSA's January 2020 RFI on the Large Truck Crash Causal Factors Study.

Agency Response: FMCSA acknowledges and appreciates ATA's and OOIDA's support of the proposed IC and the Large Truck Crash Causal Factors Study. The Agency previously reviewed ATA's and OOIDA's comments on the January 2020 RFI and has taken those comments, along with all other comments received on the docket for that RFI, into consideration during the study planning process. The Agency will take ATA's and OOIDA's comments into consideration when developing the crash data collection ICR.

Public Comments Invited: You are asked to comment on any aspect of this IC, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.

Thomas P. Keane,
Associate Administrator, Office of Research and Registration.

[FR Doc. 2023-11189 Filed 5-24-23; 8:45 am]

BILLING CODE 4910-EX-P